DEPARTMENT OF THE INTERIOR

The Bureau of Ocean Energy Management, Regulation and Enforcement

Environmental Documents Prepared for Proposed Oil, Gas, and Mineral Operations by the Gulf of Mexico Outer Continental Shelf (OCS) Region

AGENCY: The Bureau of Ocean Energy Management, Regulation and Enforcement, Interior.

ACTION: Notice of the availability of environmental documents prepared for OCS mineral proposals by the Gulf of Mexico OCS Region.

SUMMARY: The Bureau of Ocean Energy Management, Regulation and Enforcement (BOEMRE), in accordance with Federal Regulations that implement the National Environmental Policy Act (NEPA), announces the availability of NEPA-related Site-Specific Environmental Assessments (SEA) and Findings of No Significant Impact (FONSI), prepared by BOEMRE for the following oil-, gas-, and mineral-related activities proposed on the Gulf of Mexico.

FOR FURTHER INFORMATION CONTACT: Public Information Unit, Information Services Section at the number below. Bureau of Ocean Energy Management, Regulation and Enforcement, Gulf of Mexico OCS Region, Attention: Public Information Office (MS 5034), 1201 Elmwood Park Boulevard, Room 114, New Orleans, Louisiana 70123-2394, or by calling 1-800-200-GULF.

SUPPLEMENTARY INFORMATION: BOEMRE prepares SEAs and FONSIs for proposals that relate to exploration, development, production, and transport of oil, gas, and mineral resources on the Federal OCS. These SEAs examine the potential environmental effects of activities described in the proposals and present BOEMRE conclusions regarding the significance of those effects. Environmental Assessments are used as a basis for determining whether or not approval of the proposals constitutes a major Federal action that significantly affects the quality of the human environment in accordance with NEPA Section 102(2)(C). A FONSI is prepared in those instances where BOEMRE finds that approval will not result in significant effects on the quality of the human environment. The FONSI briefly presents the basis for that finding and includes a summary or copy of the SEA.

This notice constitutes the public notice of availability of environmental documents required under the NEPA Regulations.

Activity/operator | Location | Date
GOM Shelf, LLC, Structure Removal, SEA ES/SR 10-033 | Matagorda Island, Block 588, Lease OCS-G 18782, located 18 miles from the nearest Louisiana shoreline | 4/2/2010
Energy XXI GOM, LLC, Structure Removal, SEA ES/SR 10-027 | West Cameron, Block 248, Lease OCS-G 09048, located 44 miles from the nearest Louisiana shoreline | 4/2/2010
Shell Offshore, Inc., Initial Exploration Plan, SEA S-7357 | De Soto Canyon Blocks 353 & 397 & Mississippi Canyon Block 393, located 78 miles from the nearest Louisiana shoreline, 112 miles from the nearest Mississippi shoreline, 113 miles from the nearest Alabama shoreline and 119 miles from the nearest Florida shoreline | 4/5/2010
Ridgelake Energy, Inc., Structure Removal, SEA ES/SR 10-019 | Eugene Island, Block 324, Lease OCS-G 26041, located 96 miles from the nearest Louisiana shoreline | 4/6/2010
Helis Oil & Gas Company, LLC, Structure Removal, SEA ES/SR 10-020 & 10-021 | Eugene Island, Block 44, Lease OCS-G 19784, located 20 miles from the nearest Louisiana shoreline | 4/6/2010
GOM Shelf, LLC, Structure Removal, SEA ES/SR 10-040 | Grand Isle, Block 48, Lease OCS-G 00134, located 15 miles from the nearest Louisiana shoreline | 4/6/2010
GOM Shelf, LLC, Structure Removal, SEA ES/SR 10-026 | Matagorda Island, Block 586, Lease OCS-G 14791, located 24 miles from the nearest Texas shoreline | 4/6/2010
Hilcorp Energy GOM, LLC, Structure Removal, SEA ES/SR 10-049 | Ship Shoal, Block 209, Lease OCS-G 00827, located 34 miles from the nearest Louisiana shoreline | 4/6/2010
Apex Oil & Gas, Inc., Structure Removal, SEA ES/SR 10-050 | West Cameron, Block 442, Lease OCS-G 25914, located 80 miles from the nearest Louisiana shoreline | 4/7/2010
Apex Oil & Gas, Inc., Structure Removal, SEA ES/SR 10-051 | West Cameron, Block 473, Lease OCS-G 15095, located 76 miles from the nearest Louisiana shoreline | 4/7/2010
Sea Robin Pipeline Company, LLC, Structure Removal, SEA ES/SR 10-056 | East Cameron, Block 265, Lease OCS-G 02392, located 70 miles from the nearest Louisiana shoreline | 4/9/2010
Apache Corporation, Structure Removal, SEA ES/SR 08-012A | High Island, Block A 572, Lease OCS-G 02392, located 118 miles from the nearest Texas shoreline | 4/9/2010
Helis Oil & Gas Company, LLC, Structure Removal, SEA ES/SR 10-018 | High Island, Block A 64, Lease OCS-G 26513, located 31 miles from the nearest Texas shoreline | 4/9/2010
Energy XXI GOM, LLC, Structure Removal, SEA ES/SR 10-036 | West Cameron, Block 238, Lease OCS-G 02834, located 44 miles from the nearest Louisiana shoreline | 4/9/2010
Merit Energy Company, Structure Removal, SEA ES/SR 10-043 | High Island, Block 138, Lease OCS-G 09079, located 20 miles from the nearest Louisiana shoreline | 4/15/2010
Merit Energy Company, Structure Removal, SEA ES/SR 10-047 & 10-048 | High Island, Blocks 38 & 39, Leases OCS-G 14878 & 04078, located 12 & 14 miles from the nearest Louisiana shoreline | 4/16/2010
Reservoir Geophysical Corporation, Geological & Geophysical Notice of Scientific Research, SEA NG10-004 | Located in the Gulf of Mexico, Outer Continental Shelf | 4/16/2010
Dynamic Offshore Resources NS, LLC, Structure Removal, SEA ES/SR 10-053, 10-054 & 10-055 | Matagorda Island, Blocks 605 & 606, Leases OCS-G 07199 & 07200, located 20 & 21 miles from the nearest Texas shoreline | 4/16/2010
GOM Shelf LLC, Structure Removal, SEA ES/SR 10-030, 10-031 & 10-032 | Matagorda Island, Blocks 633 & 634, Leases OCS-G 06042 & 07202, located 15 miles from the nearest Texas shoreline | 4/16/2010
Chevron, U.S.A., Inc., Structure Removal, SEA ES/SR 10-057 | South Timbalier, Block 24, Lease OCS-G 00387, located 6 miles from the nearest Louisiana shoreline | 4/16/2010
Walter Oil & Gas Corporation, Revised Exploration Plan, SEA R-5035 AA | Ewing Bank, Block 834, Lease OCS-G 27982, located in the Central Planning Area of the Gulf of Mexico, 70 miles offshore, south of Lafourche Parish, Louisiana | 4/19/2010
BHP Billiton Petroleum (GOM), Inc., Revised Exploration Plan, SEA R-5033 AA | Green Canyon, Block 817, Lease OCS-G 31753, located in the Central Planning Area of the Gulf of Mexico, 130 miles offshore, south of Terrebonne Parish, Louisiana | 4/19/2010
McMoRan Oil & Gas, LLC, Structure Removal, SEA ES/SR 09-041 | High Island, Block A471, Lease OCS-G 02690, located 96 miles from the nearest Texas shoreline | 4/19/2010
McMoRan Oil & Gas, LLC, Structure Removal, SEA ES/SR 09-040A | High Island, Block A-471, Lease OCS-G 02690, located 96 miles from the nearest Texas shoreline | 4/21/2010
BP Exploration & Production, Inc., Revised Exploration Plan, SEA R-5038 AA | Mississippi Canyon, Block 252, Lease OCS-G 32306, located in the Central Planning Area of the Gulf of Mexico, 48 miles offshore, south of Plaquemines Parish, Louisiana | 4/24/2010
McMoRan Oil & Gas, LLC, Structure Removal SEA ES/SR 09-046 | East Cameron, Block 286, Lease OCS-G 02051, located 84 miles from the nearest Louisiana shoreline | 4/26/2010
Chevron U.S.A., Inc., Structure Removal, SEA ES/SR 10-060 | Bay Marchand, Block 2, Lease OCS-G 00369, located 4 miles from the nearest Louisiana shoreline | 4/27/2010
Merit Energy Company, Structure Removal, SEA ES/SR 08-108A | Mustang Island, Block 785, Lease OCS-G 08975, located 28 miles from the nearest Texas shoreline | 4/27/2010
Merit Energy Company, Structure Removal, SEA ES/SR 08-109A | Mustang Island, Block 672, Lease OCS-G 10198, located 27 miles from the nearest Texas shoreline | 4/28/2010
GOM Shelf LLC, Structure Removal, SEA ES/SR 10-037 | West Delta, Block 70, Lease OCS-G 00182, located 19 miles from the nearest Louisiana shoreline | 4/28/2010
GOM Shelf, LLC, Structure Removal, SEA ES/SR 10-038 | West Delta, Block 70, Lease OCS-G 00182, located 23 miles from the nearest Louisiana shoreline | 4/28/2010
GOM Shelf, LLC, Structure Removal, SEA ES/SR 10-039 | West Delta, Block 71, Lease OCS-G 00838, located 23 miles from the nearest Louisiana shoreline | 4/28/2010
Wild Well Control, Inc., Structure Removal, SEA ES/SR 10-065 | West Delta, Block 69, Lease OCS-G 00181, located 23 miles from the nearest Louisiana shoreline | 4/30/2010
Merit Energy Company, Structure Removal, SEA ES/SR 08-114A | Matagorda Island, Block 682, Lease OCS-G 05171, located 20 miles from the nearest Texas shoreline | 5/3/2010
Arena Offshore, LLC, Structure Removal, SEA ES/SR 10-052 | Brazos, Block A-66, Lease OCS-G 06088, located 164 miles from the nearest Texas shoreline | 5/4/2010
Energy XXI GOM, LLC, Well Conductor Removal, SEA APM EW948-SS001 | Ewing Bank, Block 948, Lease OCS-G 26226, located 70 miles from the nearest Louisiana shoreline | 5/4/2010
Noble Energy, Inc., Structure Removal, SEA ES/SR 09-110A, 09-111A & 09-112A | Main Pass, Blocks 305 & 306, Leases OCS-G 01676 & 01677, located 26 miles from the nearest Louisiana shoreline | 5/6/2010
Hunt Oil Company, Structure Removal, SEA ES/SR 10-063 | South Timbalier, Block 196, Lease OCS-G 19829, located 43 miles from the nearest Louisiana shoreline | 5/13/2010
XTO Offshore, Inc., Structure Removal, SEA ES/SR 10-059 | Eugene Island, Block 286, Lease OCS-G 00993, located 75 miles from the nearest Louisiana shoreline | 5/18/2010
XTO Offshore, Inc., Structure Removal, SEA ES/SR 92-045A | Eugene Island, Block 286, Lease OCS-G 00993, located 75 miles from the nearest Louisiana shoreline | 5/18/2010
Energy XXI GOM, LLC, Structure Removal, SEA ES/SR 10-061 | Ship Shoal, Block 52, Lease OCS-G 24916, located 13 miles from the nearest Louisiana shoreline | 5/20/2010
XTO Offshore, Inc., Structure Removal, SEA ES/SR 10-058 | Eugene Island, Block 309, Lease OCS-G 00997, located 75 miles from the nearest Louisiana shoreline | 5/21/2010
Cronus Offshore, Inc., Structure Removal, SEA ES/SR 89-052 B | Brazos, Block A22, Lease OCS-G 03937, located 35 miles from the nearest Texas shoreline | 5/24/2010
Maritech Resources, Inc., Structure Removal, SEA ES/SR 10-017 | High Island, Block A-568, Lease OCS-G 02716, located 110 miles from the nearest Texas shoreline | 5/24/2010
McMoRan Oil & Gas, LLC, Structure Removal, SEA ES/SR 10-069 | Ship Shoal, Block 157, Lease OCS-G 08709, located 30 miles from the nearest Louisiana shoreline | 5/24/2010
McMoRan Oil & Gas, LLC, Structure Removal, SEA ES/SR 10-070, 10-071, 10-072 & 10-073 | West Cameron, Block 118, Lease OCS-G 00757, located 17 miles from the nearest Louisiana shoreline | 5/24/2010
McMoRan Oil & Gas LLC, Structure Removal, SEA ES/SR 10-082 | High Island, Block A-520, Lease OCS-G 24416, located 98 miles from the nearest Louisiana shoreline | 5/25/2010
Apache Corporation, Structure Removal, SEA ES/SR 10-079 | Mustang Island, Block 787, Lease OCS-G 11221, located 26 miles from the nearest Texas shoreline | 5/25/2010
McMoRan Oil & Gas, LLC, Structure Removal, SEA ES/SR 10-068 | Ship Shoal, Block 145, Lease OCS-G 01014, located 23 miles from the nearest Louisiana shoreline | 5/25/2010
Stone Energy Corporation, Structure Removal, SEA ES/SR 10-080 | South Timbalier, Block 102, Lease OCS-G 26092, located 26 miles from the nearest Louisiana shoreline | 5/25/2010
Gryphon Exploration Company, Structure Removal, SEA ES/SR 10-083 | West Cameron, Block 567, Lease OCS-G 24768, located 100 miles from the nearest Louisiana shoreline | 5/25/2010
Apache Corporation, Structure Removal, SEA ES/SR 10-041 & 10-042 | Matagorda Island, Block 623, Lease OCS-G 03088, located 15 miles from the nearest Texas shoreline | 5/26/2010
Truckline Gas Company, LLC, Structure Removal, SEA ES/SR 10-089 | Ship Shoal, Block 274, Lease OCS-G 01852, located 62 miles from the nearest Louisiana shoreline | 5/27/2010
GOM Shelf LLC, Structure Removal, SEA ES/SR 10-038A | West Delta, Block 70, Lease OCS-G 00182, located 23 miles from the nearest Louisiana Shoreline | 5/27/2010
Shell Offshore, Inc., Geological & Geophysical Prospecting for Mineral Resources, SEA L10-027 | Located in the Central Gulf of Mexico South of Morgan City, Louisiana | 5/27/2010

Persons interested in reviewing environmental documents for the proposals listed above or obtaining information about SEAs and FONSIs prepared by the Gulf of Mexico OCS Region are encouraged to contact BOEMRE at the address or telephone listed in the FOR FURTHER INFORMATION CONTACT section.

Dated: August 11, 2010.
John Rodi,
Deputy Regional Director, Gulf of Mexico OCS Region.

[FR Doc. 2010-27805 Filed 11-3-10; 8:45 am]

BILLING CODE 4310-MR-P